DEPARTMENT OF ENERGY

Federal Energy Regulatory Commission

[Docket No. EG01-215-000-000, et al.]

ARE Generation Company, L.L.C., et al. Electric Rate and Corporate Regulation Filings

May 23, 2001.

Take notice that the following filings have been made with the Commission:

1. ARE Generation Company, L.L.C.

[Docket No. EG01-215-000]

Take notice that on May 21, 2001, ARE Generation Company, L.L.C. (AGC) tendered for filing with the Federal Energy Regulatory Commission (Commission), an application for determination of exempt wholesale generator status, pursuant to Section 32(a)(1) of the Public Utility Holding Company Act of 1935, as amended, (PUHCA), 15 U.S.C. § 79z-5a(a)(1) (1994), and Subchapter T, Part 365 of the Commission's regulations.

AGC is a Delaware limited liability company that owns and operates a 40 megawatt gas-fired cogeneration facility located in Anschutz, Wyoming. AGC states that it will be engaged directly, or indirectly through one or more affiliates as defined in Section 2(a)(11)(B) of PUHCA, and exclusively in the business of owning or operating or both owning and operating an eligible facility, and selling electric energy at wholesale.

Comment date: June 13, 2001, in accordance with Standard Paragraph E at the end of this notice. The Commission will limit its consideration of comments to those that concern the adequacy or accuracy of the application.

2. Cold Springs Creek, LLC

[Docket No. EG01-216-000]

Take notice that on May 21, 2001, Cold Springs Creek, LLC (Applicant), an Idaho limited liability company, whose address is 130 Riley Creek Park Drive, P.O. Box 220 Lacede, Idaho 83841, filed with the Federal Energy Regulatory Commission (Commission) an application for determination of exempt wholesale generator status pursuant to Part 365 of the Commission's regulations.

Applicant intends to lease and operate a facility comprised of five (5), continuously rated 1.6-megawatt generator sets (non-road engines) fired on diesel fuel with a maximum total output of 8-megawatts (the Facility). The Facility is located in Lacede, Idaho. Electric energy produced by the Facility will be sold by Applicant to the wholesale power market in the Northwestern United States.

Comment date: June 13, 2001, in accordance with Standard Paragraph E at the end of this notice. The Commission will limit its consideration of comments to those that concern the adequacy or accuracy of the application.

3. GenPower EW Frankfort, LLC

[Docket No. EG01-217-000]

Take notice that on May 21, 2001, GenPower EW Frankfort, LLC (Applicant), a Delaware limited liability company, whose address is 1040 Great Plain Avenue, Needham, MA, filed with the Federal Energy Regulatory Commission (Commission) an application for determination of exempt wholesale generator status pursuant to Part 365 of the Commission's regulations.

Applicant intends to construct an approximate 320 MW natural gas-fired independent power production facility in West Frankfort, Franklin County, Illinois (the Facility). The Facility is currently under development and will be owned by Applicant. Electric energy produced by the Facility will be sold by Applicant to the wholesale power market in the north central United States.

Comment date: June 13, 2001, in accordance with Standard Paragraph E at the end of this notice. The Commission will limit its consideration of comments to those that concern the adequacy or accuracy of the application.

4. El Paso Electric Company, Public Service Company of New Mexico, Arizona Public Service Company, Salt River Project Agricultural Improvement and Power District

[Docket No. ER01-2091-000, Docket No. NJ01-7-000]

Take notice that on May 18, 2001, El Paso Electric Company, Public Service Company of New Mexico, Arizona Public Service Company, and the Salt River Project Agricultural Improvement and Power District, tendered for filing revisions to their Open Access Transmission Tariffs to treat the multiple generating units that are connected to the Palo Verde/Hassayampa Common Bus Market Hub as a single point of receipt.

Comment date: June 8, 2001, in accordance with Standard Paragraph E at the end of this notice.

5. Florida Power & Light Company

[Docket No. ER01-1236-002]

Take notice that on May 18, 2001, Florida Power & Light Company (FPL) tendered for filing a revision to the filing dated March 15, 2001. The March 15, 2001 filing was to show compliance with Order No. 614, FERC Stats.& Regs. ¶31,096 (2000). FPL revised the filing by changing the designation in the header, specifically, by designating the correct volume number of the governing Tariff as Volume 7 rather than Volume 8.

Comment date: June 8, 2001, in accordance with Standard Paragraph E at the end of this notice.

6. New York Independent System Operator, Inc.

[Docket No. ER01-1489-001]

Take notice that on May 18, 2001, the New York Independent System Operator, Inc. (NYISO) tendered for filing revisions to its Open Access Transmission Tariff and Market Administration and Control Area Services Tariff to revise the expiration date of the NYISO's Temporary Extraordinary Procedures, pursuant to the Commission's order issued on May 8, 2001 in the above-captioned docket. The NYISO has requested an effective date of May 1, 2001 for the filing.

The NYISO has served a copy of this filing upon parties on the official service list maintained by the Commission for the above-captioned docket.

Comment date: June 8, 2001, in accordance with Standard Paragraph E at the end of this notice.

7. New York Independent System Operator, Inc. Operator, Inc.

[Docket Nos. ER01-1517-001;ER01-181-002]

Take notice that on May 18, 2001, the New York Independent System Operator, Inc. (NYISO) tendered for filing revisions to its Market Administration and Control Area Services Tariff to revise the expiration date of the NYISO's existing Bid Cap in certain of the NYISO-administered markets, pursuant to the Commission's order issued on May 8, 2001 in the above-captioned docket. The NYISO has requested an effective date of May 1, 2001 for the filing.

The NYISO has served a copy of this filing upon parties on the official service lists maintained by the Commission for the above-captioned dockets.

Comment date: June 8, 2001, in accordance with Standard Paragraph E at the end of this notice.

8. FPL Energy MH50, L.P.

[Docket No. ER01-1676-001]

Take notice that on May 18, 2001, FPL Energy MH50, L.P. (MH50) tendered for filing amendments to its proposed Rate Schedule FERC No. 2. MH50 states that the amendments consist of limited modifications to three components of the rate schedule, which was originally filed on March 30, 2001.

MH50 states that a copy of this filing has been mailed to PJM.

Comment date: June 8, 2001, in accordance with Standard Paragraph E at the end of this notice.

9. Idaho Power Company

[Docket No. ER01-1771-002]

Take notice that on May 18, 2001, Idaho Power Company (Idaho Power) tendered for filing a request for an effective date of January 1, 2001 for a Power Sales Agreement (Agreement) tendered for filing on April 10, 2001 in Docket No. ER01-1771-000; and revised sheets of an Amendment to the Agreement filed on April 25, 2001 in Docket No. ER01-1771-001. Idaho Power requests an effective date of February 1, 2001 for the Amendment.

Comment date: June 8, 2001, in accordance with Standard Paragraph E at the end of this notice.

10. Michigan Electric Transmission Company

[Docket No. ER01-2078-000]

Take notice that on May 18, 2001 Michigan Electric Transmission Company (Michigan Transco) tendered for filing a Letter Agreement with Covert Generating Company, LLC [Generator], dated April 18, 2001, (Agreement). Under the Agreement, certain preliminary construction activities are to be undertaken that are associated with providing an electrical connection between Michigan Transco's transmission system and a generating plant to be built by Generator. It also replaces and supersedes an earlier Letter Agreement with Covert.

Michigan Transco requested that the Agreement be allowed to become effective May 18, 2001.

Copies of the filing were served upon Generator and the Michigan Public Service Commission.

Comment date: June 8, 2001, in accordance with Standard Paragraph E at the end of this notice.

11. Southern California Edison Company

[Docket No. ER01-2079-000]

Take notice that on May 18, 2001, Southern California Edison Company (SCE) tendered for filing the Amended and Restated Radial Lines Agreement (Amended Agreement) between SCE and AES Huntington Beach L.L.C. (AES)

The Amended Agreement serves to provide the terms and conditions under which SCE shall operate and maintain the Radial Lines, and to reflect certain capital additions to such Radial Line facilities.

Copies of this filing were served upon the Public Utilities Commission of the State of California and AES.

Comment date: June 8, 2001, in accordance with Standard Paragraph E at the end of this notice.

12. Virginia Electric and Power Company

[Docket No. ER01-2080-000]

Take notice that on May 18, 2001, Virginia Electric and Power Company (Dominion Virginia Power) tendered for filing Notices of Termination of Service Agreements with Entergy Power Marketing Corp. for Firm and Non-Firm Point-To-Point Transmission Service designated respectively as First Revised Service Agreement Nos. 188 and 107 under FERC Electric Tariff, Second Revised Volume No. 5 and Koch Energy Trading, Inc. for Firm and Non-Firm Point-To-Point Transmission Service designated respectively as First Revised Service Agreement Nos. 134 and 183 under FERC Electric Tariff, Second Revised Volume No. 5. Dominion Virginia Power also respectfully requests an effective date of the termination of the Service Agreement of July 17, 2001, which is sixty (60) days from the date of filing of the Letter of Termination.

Copies of the filing were served upon Axia Energy, L.P. (merged entity replacing Koch Energy Trading, Inc. and Entergy Power Marketing Corp.), the Virginia State Corporation Commission and the North Carolina Utilities Commission.

Comment date: June 8, 2001, in accordance with Standard Paragraph E at the end of this notice.

13. Allegheny Energy Service Corporation on behalf of Allegheny Energy Supply Company, LLC

[Docket No. ER01-2081-000]

Taken notice that on May 18, 2001, Allegheny Energy Service Corporation on behalf of Allegheny Energy Supply Company, LLC (Allegheny Energy Supply) tendered for filing Service Agreement No. 123 to add one (1) new Customer to the Market Rate Tariff under which Allegheny Energy Supply offers generation services. Allegheny Energy Supply requests a waiver of notice requirements for an effective date of April 19, 2001 for service to Atlantic City Electric Company. Confidential treatment of information in the Service Agreement has been requested.

Copies of the filing have been provided to the Public Utilities Commission of Ohio, the Pennsylvania Public Utility Commission, the Maryland Public Service Commission, the Virginia State Corporation Commission, the West Virginia Public Service Commission, and all parties of record.

Comment date: June 8, 2001, in accordance with Standard Paragraph E at the end of this notice.

14. California Independent System Operator Corporation

[Docket No. ER01-2082-000]

Take notice that on May 18, 2001, the California Independent System Operator Corporation, tendered for filing a Meter Service Agreement for ISO Metered Entities between the ISO and Ramco, Inc. for acceptance by the Commission.

The ISO states that this filing has been served on Ramco, Inc. and the California Public Utilities Commission.

The ISO is requesting waiver of the 60-day notice requirement to allow the Meter Service Agreement for ISO Metered Entities to be made effective May 8, 2001.

Comment date: June 8, 2001, in accordance with Standard Paragraph E at the end of this notice.

15. California Independent System Operator Corporation

[Docket No. ER01-2083-000]

Take notice that on May 18, 2001, the California Independent System Operator Corporation, tendered for filing a Participating Generator Agreement between the ISO and Ridgewood Olinda, LLC for acceptance by the Commission.

The ISO states that this filing has been served on Ridgewood Olinda, LLC and the California Public Utilities Commission.

The ISO is requesting waiver of the 60-day notice requirement to allow the Participating Generator Agreement to be made effective May 8, 2001.

Comment date: June 8, 2001, in accordance with Standard Paragraph E at the end of this notice.

16. California Independent System Operator Corporation

[Docket No. ER01-2084-000]

Take notice that on May 18, 2001, the California Independent System Operator Corporation, tendered for filing a Meter Service Agreement for ISO Metered Entities between the ISO and Ridgewood Olinda, LLC for acceptance by the Commission.

The ISO states that this filing has been served on Ridgewood Olinda, LLC and the California Public Utilities Commission.

The ISO is requesting waiver of the 60-day notice requirement to allow the Meter Service Agreement for ISO Metered Entities to be made effective May 8, 2001.

Comment date: June 8, 2001, in accordance with Standard Paragraph E at the end of this notice.

17. California Independent System Operator Corporation

[Docket No. ER01-2085-000]

Take notice that on May 18, 2001, the California Independent System Operator Corporation, tendered for filing a Participating Generator Agreement between the ISO and Ramco, Inc. for acceptance by the Commission.

The ISO states that this filing has been served on Ramco, Inc. and the California Public Utilities Commission.

The ISO is requesting waiver of the 60-day notice requirement to allow the Participating Generator Agreement to be made effective May 8, 2001.

Comment date: June 8, 2001, in accordance with Standard Paragraph E at the end of this notice.

18. San Manuel Power Co. LLC

[Docket No. ER01-2086-000]

Take notice that on May 18, 2001, San Manuel Power Co. LLC (Applicant), tendered for filing an application for approval of its initial rate schedule (FERC Electric Tariff Original Volume No. 1) and for blanket approval for market-based rates pursuant to Part 35 of the Commission's regulations.

Applicant is a limited liability company that will operate a 37-MW generating plant near San Manuel, Arizona.

Comment date: June 8, 2001, in accordance with Standard Paragraph E at the end of this notice.

19. Deseret Generation & Transmission Co-operative

[Docket No. ER01-2087-000]

Take notice that on May 18, 2001, Deseret Generation & Transmission Co-operative, Inc. (Deseret), tendered for filing an executed long-term firm point-to-point service agreement with Idaho Power Company under Deseret's open access transmission tariff. Deseret requests a waiver of the Commission's notice requirements for an effective date of January 1, 2001.

Deseret's open access transmission tariff is currently on file with the Commission in Docket No. OA97-487-000. Idaho Power has been provided a copy of this filing.

Comment date: June 8, 2001, in accordance with Standard Paragraph E at the end of this notice.

20. American Electric Power Service Corporation

[Docket No. ER01-2090-000]

Take notice that on May 18, 2001, the American Electric Power Service Corporation (AEPSC) tendered for filing executed Interconnection and Operation Agreement between Ohio Power Company and Dominion Equipment, Inc. The agreement is pursuant to the AEP Companies' Open Access Transmission Service Tariff (OATT) that has been designated as the Operating Companies of the American Electric Power System FERC Electric Tariff Revised Volume No. 6, effective June 15, 2000.

AEP requests an effective date of July 17, 2001.

A copy of the filing was served upon the Ohio Public Utilities Commission.

Comment date: June 8, 2001, in accordance with Standard Paragraph E at the end of this notice.

21. Florida Power & Light Company

[Docket No. ER01-874-002]

Take notice that on May 18, 2001, Florida Power & Light Company (FPL) tendered for filing a revision to the filing dated March 6, 2001. The March 6, 2001 filing was to show compliance with Order No. 614, FERC Stats. & Regs. ¶ 31,096 (2000). FPL revised the filing by changing the designation in the header, specifically, by designating the correct volume number of the governing Tariff as Volume 7 rather than Volume 8.

Comment date: June 8, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13725 Filed 5-31-01; 8:45 am]

BILLING CODE 6717-01-P